DEPARTMENT OF ENERGY

Federal Energy Regulatory Commission

18 CFR Parts 2 and 157

[Docket No. RM12-11-003; Order No. 790-B]

Revisions to Auxiliary Installations, Replacement Facilities, and Siting and Maintenance Regulations

AGENCY: Federal Energy Regulatory Commission.

ACTION: Final rule, order on clarification; correction.

SUMMARY: This document contains corrections to the final rule (RM12-11-003) which was published in the Federal Register of Friday, July 24, 2015 (80 FR 43944). The final rule amended regulations to: provide pre-granted authority under a new paragraph to abandon or replace auxiliary facilities, subject to certain conditions; permit auxiliary facilities that cannot meet the conditions for the pre-granted abandonment authority in the new paragraph to be abandoned under the blanket certificate regulations, subject to those regulations' requirements; and permit replacement facilities constructed under the regulations to be abandoned under the blanket certificate regulations, subject to those regulations' requirements.

DATES: Effective October 7, 2015.

FOR FURTHER INFORMATION CONTACT:

Katherine Liberty, Office of the General Counsel, Federal Energy Regulatory Commission, 888 First Street NE., Washington, DC 20426, (202) 502-6491, katherine.liberty@ferc.gov.

Gordon Wagner, Office of the General Counsel, Federal Energy Regulatory Commission, 888 First Street NE., Washington, DC 20426, (202) 502-8947, gordon.wagner@ferc.gov.

Howard Wheeler, Office of Energy Projects, Federal Energy Regulatory Commission, 888 First Street NE., Washington, DC 20426, (202) 502-8688, howard.wheeler@ferc.gov.

Shannon Jones, Office of Energy Projects, Federal Energy Regulatory Commission, 888 First Street NE., Washington, DC 20426, (202) 502-6410, shannon.jones@ferc.gov.

SUPPLEMENTARY INFORMATION:

Revisions to Auxiliary Installations, Replacement Facilities, and Siting and Maintenance Regulations Docket No. RM12-11-003

Errata Notice

On July 16, 2015, the Commission issued a Final Rule in the above captioned proceeding. Revisions to Auxiliary Installations, Replacement Facilities, and Siting and Maintenance Regulations, 152 FERC ¶ 61,049 (2015). This errata notice makes a correction to the Final Rule as issued.

In FR Doc. 2015-17919 appearing on page 43949 in the Federal Register of Friday, July 24, 2015, the following correction is made:

1. On page 43949, in the second column, § 157.216(b)(2)(i)(A) of the regulatory text is revised to read as follows:

“(A) Will not exceed the cost limit in § 157.208(d) for activities under the prior notice provisions;”

Dated: August 14, 2015.
Kimberly D. Bose,
Secretary.

[FR Doc. 2015-20538 Filed 8-19-15; 8:45 am]

BILLING CODE 6717-01-P